DEPARTMENT OF TRANSPORTATION

Industry Forums on the Next ITS Strategic Plan; Notice of Public Meeting

AGENCY: ITS Joint Program Office, Research and Innovative Technology Administration, U.S. Department of Transportation.

ACTION: Notice.

The U.S. Department of Transportation (USDOT) Intelligent Transportation System Joint Program Office (ITS JPO) will participate in four industry forums by facilitating workshops to generate feedback for the next ITS Strategic Plan (2015-2019). The workshops are designed to generate ideas and collect viewpoints on multiple areas of interest including multi-modal operations, planning, pricing, standards and architecture, education and training, and connected vehicles. The ITS JPO will lead participants in a fast paced, interactive discussion that will involve hands-on application of critical thinking tools designed to draw out information to identify and validate focus areas for the next ITS Strategic Plan. The ITS JPO also offers an opportunity for the public to share ideas and inputs through an online tool, IdeaScale at http://itsstrategicplan.ideascale.com.

• The first facilitated session will take place August 5, 2013 at the Annual Meeting of the Institute of Transportation Engineers (ITE) in the Hynes Convention Center in Boston, MA. Persons planning to attend this ITS JPO workshop should register online no later than July 26, 2013 at http://www.itsa.org/strategicplanwebinar.

• The second facilitated session will take place August 27, 2013 at the 2013 National Rural ITS Conference (NRITS) in the Rivers Edge Convention Center in St. Cloud, MN. Persons planning to attend this ITS JPO workshop should register online no later than August 13, 2013 at http://www.itsa.org/strategicplanwebinar.

• The third facilitated session will take place September 2, 2013 at the IEEE Vehicle Technology Conference at the Wynn Hotel (Encore) in Las Vegas, NV. Persons planning to attend this ITS JPO workshop should register online no later than August 19, 2013 at http://www.itsa.org/strategicplanwebinar.

• The last facilitated session will take place September 24-26, 2013 at the Connected Vehicle Public Meeting at the Holiday Inn in Arlington, VA. Persons planning to attend this ITS JPO workshop should register online no later than September 13, 2013 at http://www.itsa.org/strategicplanwebinar.

Issued in Washington, DC, on the 23rd day of July 2013.
John Augustine,
Managing Director, ITS Joint Program Office.

[FR Doc. 2013-18020 Filed 7-26-13; 8:45 am]

BILLING CODE 4910-HY-P